DEPARTMENT OF COMMERCE

National Oceanic and Atmospheric Administration

[I.D. 060603D]

Atlantic Highly Migratory Species (HMS); Issues and Options Paper for Amendment 2 to the Fishery Management Plan for Atlantic Tunas, Swordfish, and Sharks (HMS FMP) and Amendment 2 to the Atlantic Billfish Fishery Management Plan (Billfish FMP)

AGENCY: National Marine Fisheries Service (NMFS), National Oceanic and Atmospheric Administration (NOAA), Commerce.

ACTION: Notice of availability, notice of public scoping meetings, notice of public comment period.

SUMMARY: NMFS announces the availability of a paper describing issues and options for Amendment 2 to the HMS FMP and for Amendment 2 to the Billfish FMP. The issues and options paper describes a wide range of potential management measures that could affect fishermen, dealers, or equipment suppliers for the Atlantic tuna, swordfish, shark, or billfish fisheries. NMFS also announces a series of public scoping meetings to discuss and collect comments on the issues described in the issues and options paper. Comments received on the issues and options paper and in the scoping meetings will assist NMFS in developing Amendment 2 to the HMS FMP and Amendment 2 to the Billfish FMP.

DATES: Written comments on the issues and options paper must be received no later than July 14, 2004.

The public scoping meetings will be held in May and June, 2004. For specific dates and times, see SUPPLEMENTARY INFORMATION.

ADDRESSES: Written comments on this action should be mailed to Christopher Rogers, Chief, NMFS Highly Migratory Species Management Division, 1315 East-West Highway, Silver Spring, MD 20910; or faxed to (301) 713-1917. Comments on this NOA may also be submitted by e-mail: 060303D.issues@noaa.gov. Copies of the issues and options paper or the HMS and Billfish FMPs can be obtained from the HMS website at: http://www.nmfs.noaa.gov/sfa/hms, by contacting Karyl Brewster-Geisz at (301) 713-2347, or by writing to the address above.

The public scoping meetings will be held in Gloucester, MA; Ocean City, MD; New Orleans, LA; Manteo, NC; San Juan, PR; Destin, FL; Montauk, NY; Port Aransas, TX; and Cocoa Beach, FL; for specific locations, see SUPPLEMENTARY INFORMATION.

FOR FURTHER INFORMATION CONTACT: Karyl Brewster-Geisz at (301) 713-2347, Mark Murray-Brown at (978) 281-9260, or Russell Dunn at (727) 570-5447.

SUPPLEMENTARY INFORMATION: Atlantic tuna, swordfish, shark and billfish fisheries are managed under the authority of the Magnuson-Stevens Fishery Conservation and Management Act and regulated pursuant to the Atlantic Tunas Convention Act (ATCA), which authorizes rulemaking to implement recommendations of the International Convention for the Conservation of Atlantic Tunas (ICCAT). Implementing regulations for both the HMS FMP and the Billfish FMP are at 50 CFR part 635.

Background

NMFS has received numerous recommendations and comments regarding fishery management issues and regulations from the HMS and Billfish Advisory Panels (APs) and other members of the public regarding the 1999 HMS and Billfish FMPs, and their respective amendments. An amendment to the HMS and Billfish FMPs is necessary to address many of these issues and to enact management alternatives. On July 9, 2003 (68 FR 40907), NMFS published a notice of intent (NOI) to prepare an environmental impact statement (EIS) under the National Environmental Policy Act that would assess potential effects on the human environment of actions proposed under Amendment 2 to the HMS FMP and under Amendment 2 to the Billfish FMP. The NOI identified potential actions that could be incorporated into Amendment 2 including, but not limited to: adjusting Atlantic Bluefin Tuna quota allocations, revising the limited access permit program, identifying essential fish habitat, addressing swordfish and shark quota allocation issues, and issuance of exempted fishing permits. In February 2004, NMFS met with the APs and discussed these and other potential issues and options. As a result of discussion with the APs and the comments received on the NOI, NMFS compiled an Issues and Options paper for Amendment 2 to the HMS FMP and for Amendment 2 to the Billfish FMP.

The purpose of this notice is to inform the public of the availability of the issues and options paper. This paper provides a framework for receiving public comments and for evaluating those comments as NMFS considers what actions should be incorporated into Amendment 2 or other rulemakings. NMFS will hold nine scoping meetings to gather public comments on the issues and options described in the paper. Written comments can be mailed, faxed, or e-mailed to NMFS (see ADDRESSES).

After scoping has been completed and public comments have been gathered and analyzed, NMFS will proceed, as appropriate, with the preparation of draft EISs for Amendment 2 to the HMS and Billfish FMPs and of a proposed rule. NMFS will then provide additional opportunities for public comment. Until the EISs, amendments, and proposed rule documents are finalized, all current regulations regarding HMS fisheries will remain in effect.

Request for Comments

NMFS requests public comments on a wide range of management options for Amendment 2 to the HMS and Billfish FMPs. These management measures could affect fishermen, dealers, equipment suppliers, or anyone involved with HMS fisheries. Some of the issues and potential options for which NMFS is requesting comment include, but are not limited to: modifying the General category allocation of Bluefin tuna; filleting Atlantic tuna at sea; modifying the swordfish bag limit for anglers; changing the large coastal shark trip limit for directed permit holders; streamlining the limited access permit program; simplifying the quota and permitting administrative processes for exempted fishing permits; modifying non-tournament reporting of billfish harvest; establishing outreach workshops; implementing the bycatch reduction plan; and updating essential fish habitat identifications and data for all HMS. Comments received on these and other relevant issues will assist NMFS in determining suitable alternatives to rulemaking actions and will improve the management of Atlantic HMS.

Schedule of Public Scoping Meetings

The dates, times, and locations of these meetings are scheduled as follows:

1. Wednesday, May 19, 2004. 7-9 p.m.

Gloucester Lyceum and Sawyer Free Library, 2 Dale Ave., Gloucester, MA 01930.

2. Wednesday, June 2, 2004. 7-9 p.m.

Ocean City Council Chambers, 301 Baltimore Ave., Ocean City, MD 21842.

3. Thursday, June 3, 2004. 7-9 p.m.

Elquier Regional Library, 3014 Holiday Drive, New Orleans, LA 70131.

4. Tuesday, June 8, 2004. 7-9 p.m.

North Carolina Aquarium, Roanoke Island, P.O. Box 967, Airport Road, Manteo, NC 27954.

5. Thursday, June 10, 2004. 2-4 p.m.

Ponce de Leon Ave #7, San Juan, PR 00901.

6. Thursday, June 17, 2004. 7-9 p.m.

101 Stahlman Ave., Destin, FL 32541.

7. Tuesday, June 22, 2004. 7-9 p.m.

12 Flamingo Avenue, Montauk, NY 11954.

8. Thursday, June 24, 2004. 7-9 p.m.

Marine Science Institute, Visitors Center (located on Cotter St. near beach), 750 Channel View Dr., Port Aransas, TX 78373.

9. Wednesday, June 30, 2004. 7-9 p.m.

550 North Brevard Avenue, Cocoa Beach, FL 32931.

Special Accommodations

These meetings will be accessible to people with physical disabilities. Requests for sign language interpretation or other auxiliary aids should be directed to Heather Stirratt, (301) 713-2347.

Authority: 16 U.S.C. 971 et seq. and 1801 et seq.

Dated: April 27, 2004.
John H. Dunnigan,
Director, Office of Sustainable Fisheries, National Marine Fisheries Service.

[FR Doc. 04-9854 Filed 4-29-04; 8:45 am]

BILLING CODE 3510-22-S